ENVIRONMENTAL PROTECTION AGENCY

40 CFR Part 62

[EPA-R06-OAR-2013-0763; FRL-9927-01-Region 6]

Approval and Promulgation of State Plans for Designated Facilities and Pollutants; Texas, Oklahoma, Arkansas, New Mexico, and the City of Albuquerque, New Mexico; Control of Emissions From Existing Sewage Sludge Incinerator Units

AGENCY: Environmental Protection Agency (EPA).

ACTION: Proposed rule.

SUMMARY: The Environmental Protection Agency (EPA) is proposing to approve Clean Air Act (CAA) section 111(d)/129 negative declarations for the States of Texas, Oklahoma, Arkansas, New Mexico, and the City of Albuquerque, New Mexico, for existing sewage sludge incinerator (SSI) units. These negative declarations certify that existing SSI units subject to the requirements of sections 111(d) and 129 of the CAA do not exist within the jurisdictions of Texas, Oklahoma, Arkansas, and New Mexico (including the City of Albuquerque).

DATES: Written comments must be received on or before June 1, 2015.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Mr. Kenneth Boyce, (214) 665-7259, boyce.kenneth@epa.gov.

SUPPLEMENTARY INFORMATION: In the final rules section of this Federal Register, EPA is approving the negative declarations submitted by the Texas Commission on Environmental Quality (TCEQ), the Oklahoma Department of Environmental Quality (ODEQ), the Arkansas Department of Environmental Quality (ADEQ), New Mexico Environment Department (NMED) and the City of Albuquerque, New Mexico, certifying that there are no existing sewage sludge incinerator (SSI) units within their respective jurisdictions. These negative declarations meet the requirements of 40 CFR 62.06. EPA is approving the negative declaration as a direct final rule without prior proposal because the Agency views this as a noncontroversial submittal and anticipates no adverse comments. A detailed rationale for the approval is set forth in the direct final rule. If no relevant adverse comments are received in response to this action, no further activity is contemplated. If EPA receives relevant adverse comments, the direct final rule will be withdrawn and all public comments received will be addressed in a subsequent final rule based on this proposed rule. The EPA will not institute a second comment period. Any parties interested in commenting on this action should do so at this time. Please note that if EPA receives relevant adverse comment on an amendment, paragraph, or section of this rule and if that provision may be severed from the remainder of the rule, EPA may adopt as final those provisions of the rule that are not the subject of an adverse comment.

For additional information, see the direct final rule, which is located in the rules section of this Federal Register.

Dated: April 16, 2015.
Ron Curry,
Regional Administrator, Region 6.

[FR Doc. 2015-10041 Filed 4-29-15; 8:45 am]

BILLING CODE 6560-50-P